DEPARTMENT OF TRANSPORTATION

National Highway Traffic Safety Administration

[Docket No. NHTSA-2021-0077; Notice 2]

Michelin North America, LLC, Grant of Petition for Decision of Inconsequential Noncompliance

AGENCY: National Highway Traffic Safety Administration (NHTSA), Department of Transportation (DOT).

ACTION: Grant of petition.

SUMMARY: Michelin North America, LLC (MNA), has determined that certain Michelin Pilot Sport All Season 4 replacement passenger car tires do not fully comply with Federal Motor Vehicle Safety Standard (FMVSS) No. 139, New Pneumatic Radial Tires for Light Vehicles. MNA filed a noncompliance report dated September 14, 2021. MNA subsequently petitioned NHTSA on September 30, 2021, and later supplemented the petition on September 30, 2022, for a decision that the subject noncompliance is inconsequential as it relates to motor vehicle safety. This document announces the grant of MNA's petition.

FOR FURTHER INFORMATION CONTACT: Jayton Lindley, General Engineer, NHTSA, Office of Vehicle Safety Compliance, (325) 655-0547.

SUPPLEMENTARY INFORMATION:

I. Overview

MNA has determined that certain Michelin Pilot Sport All Season 4 replacement passenger car tires do not fully comply with the requirements of paragraph S5.5.4(b) of FMVSS No. 139, New Pneumatic Radial Tires for Light Vehicles (49 CFR 571.139). MNA filed a noncompliance report dated September 14, 2021, pursuant to 49 CFR part 573, Defect and Noncompliance Responsibility and Reports. MNA subsequently petitioned NHTSA on September 30, 2021, and later supplemented the petition on September 30, 2022, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

Notice of receipt of MNA's petition was published with a 30-day public comment period, on June 23, 2022, in the Federal Register (87 FR 37553). No comments were received. To view the petition and all supporting documents log onto the Federal Docket Management System (FDMS) website at https://www.regulations.gov/. Then follow the online search instructions to locate docket number “NHTSA-2021-0077.”

II. Tires Involved

According to MNA approximately 3,589 Michelin Pilot Sport All Season 4, size 295/40ZR21 111Y XL, replacement passenger car tires, manufactured between October 7, 2020, and August 20, 2021, and sold in the United States and Canada were affected by the subject noncompliance. MNA says that of the 3,589 tires, 1,729 tires entered the U.S. market, 110 entered the Canadian market, and the remaining 1,750 were blocked in MNA's inventory control system to be repaired or scrapped. For the 110 tires that entered the Canadian market, the Agency cannot exempt MNA from the duties found in sections 30118 and 30120, respectively, to notify owners, purchasers, and dealers of a defect or noncompliance and to remedy the defect or noncompliance for those tires. Therefore, the Agency's decision will only apply to the 1,729 tires that entered the U.S. market.

III. Noncompliance

MNA explains that the noncompliance was due to a mold error in which one sidewall, the serial sidewall, of the subject tires incorrectly states the maximum load range as required by paragraph S5.5.4(b) of FMVSS No. 139. Specifically, the subject tires were marked with a maximum load of 1,090 kg (1,433 lbs.) when the conversion of kilograms to pounds should have resulted in a maximum load of 1,090 kg (2,403 lbs.).

IV. Rule Requirements

Paragraph S5.5.4(b) of FMVSS No. 139 includes the requirements relevant to this petition. For passenger car tires, if the maximum inflation pressure of a tire is 240, 280, 300, 340, or 350 kPa, then each marking of the tire's maximum load rating in kilograms must be followed in parenthesis by the equivalent load rating in pounds, rounded to the nearest whole number.

V. Summary of MNA's Petition

The following views and arguments presented in this section, “V. Summary of MNA's Petition,” are the views and arguments provided by MNA and do not reflect the views of the Agency. MNA describes the subject noncompliance and contends that the noncompliance is inconsequential as it relates to motor vehicle safety for the following reasons:

MNA asserts that although erroneously marked, the subject tires were “designed as a load index 111 tire, with a maximum load rating of 1090 kilograms, or 2,403 pounds.” MNA says that the subject tires “fully comply with Michelin performance requirements” and with all applicable FMVSSs. According to MNA, other than the tire maximum load rating in pounds, the tires are correctly marked and “provide both dealers and consumers with the necessary information to enable proper selection and application of the tires.” MNA says that if a consumer were to go by the erroneous maximum load, in pounds, based on the markings on the tire, the tire would be put “into service respecting a maximum load of 1,433 lbs., which is less than the actual designed maximum load of 2,403 lbs.”

MNA cites the following past inconsequentiality petitions NHTSA has granted that MNA claims are similar to the subject petition:

• Bridgestone Americas Tire Operations, LLC, Grant of Petition for Decision of Inconsequential Noncompliance. See 78 FR 35357, June 12, 2013;

• The Goodyear Tire & Rubber Company, Grant of Petition for Decision of Inconsequential Noncompliance. See 70 FR 41254, July 18, 2005;

• Continental Tire North America Inc., Grant of Application for Decision of Inconsequential Noncompliance. See 70 FR 14748, March 23, 2005;

• Michelin North America, Inc., Grant of Petition for Decision of Inconsequential Noncompliance. See 69 FR 62511, October 26, 2004; and

• Bridgestone/Firestone, Inc., Grant of Application for Decision That Noncompliance Is Inconsequential to Motor Vehicle Safety. See 66 FR 57772, November 16, 2001.

MNA states that they have “captured and retained” a total of 1,750 tires with the intent to either repair or scrap them. MNA also states that they have corrected the tire specification drawing and updated the mold to reflect the correct maximum load in pounds.

MNA concludes that the subject noncompliance is inconsequential as it relates to motor vehicle safety and that its petition to be exempted from providing notification of the noncompliance, as required by 49 U.S.C. 30118, and a remedy for the noncompliance, as required by 49 U.S.C. 30120, should be granted.

On August 1, 2022, NHTSA requested that MNA provide documentation that the subject tires comply with the performance requirements and all other labeling requirements of FMVSS No. 139. MNA's response was received on September 30, 2022. MNA stated that the subject tires comply with the applicable performance requirements and provided documentation under request for confidential treatment in support. Additionally, MNA provided photographs to show that the subject tires comply with all of the necessary labeling requirements, with the exception of the load range marking.

VI. NHTSA's Analysis

NHTSA has evaluated the merits of the petition submitted by MNA and is granting MNA's request for relief from notification and remedy based on the following:

1. NHTSA has no basis to believe that the subject tires do not meet the performance and labeling requirements of FMVSS No. 139, with the exception of the load markings.

2. NHTSA agrees that if consumers were to follow the incorrect maximum loading value in pounds on the outboard sidewall of the tire, the tire would not be in overloaded condition. Additionally, the tires are marked with the correct load index, and the correct maximum loading values in kilograms on the outboard sidewall. Additionally, the inboard sidewall also contains the correct maximum loading values in both kilograms and pounds.

3. NHTSA believes that the incorrect maximum load values do not affect the ability of the manufacturer or consumer to identify the affected tires in the event of a recall.

The agency notes that the petitioner has provided citations to prior inconsequentiality determinations in support of the present request. The agency notes that inconsequentiality determinations are highly fact specific and as such should not be regarded as binding precedent.

VII. NHTSA's Decision

In consideration of the foregoing, NHTSA finds that MNA has met its burden of persuasion that the subject FMVSS No. 139 noncompliance in the affected tires is inconsequential to motor vehicle safety. Accordingly, MNA's petition is hereby granted and MNA is consequently exempted from the obligation of providing notification of, and a free remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject tires that MNA no longer controlled at the time it determined that the noncompliance existed. However, the granting of this petition does not relieve tire distributors and dealers of the prohibitions on the sale, offer for sale, or introduction or delivery for introduction into interstate commerce of the noncompliant tires under their control after MNA notified them that the subject noncompliance existed.

(Authority: 49 U.S.C. 30118, 30120: delegations of authority at 49 CFR 1.95 and 501.8)

Otto G. Matheke III,
Director, Office of Vehicle Safety Compliance.

[FR Doc. 2024-23016 Filed 10-3-24; 8:45 am]

BILLING CODE 4910-59-P